NATIONAL SCIENCE FOUNDATION

National Science Board and its Subdivisions; Sunshine Act Meeting

Date and Time: August 4-5, 2004.

August 4, 2004: 8 a.m.-5:30 p.m.

Concurrent Sessions

8 a.m.-9:30 a.m. Open

8:30 a.m.-9:30 a.m. Open

9:30 a.m.-11 a.m. Open

9:30 a.m.-10:30 a.m. Open

11 a.m.-12:30 p.m. Open

12:30 p.m.-1 p.m. Closed

1 p.m.-2 p.m. Open

2 p.m.-3:30 p.m. Closed

3:30 p.m.-3:45 p.m. Open

3:45 p.m.-5 p.m. Closed

5 p.m.-5:15 p.m. Open

5:15 p.m.-5:30 p.m. Closed

August 5, 2004: 8:30 a.m.-3 p.m.

Concurrent Sessions

8:30 a.m.-9:30 a.m. Closed

9:30 a.m.-11:30 a.m. Open

11:30 a.m.-12 noon Closed

12 noon-12:30 p.m. Closed

12:45 p.m.-3 p.m. Open

Place: The National Science Foundation, 4201 Wilson Boulevard, Arlington, VA 22230. http://www.nsf.gov/nsb.

Contact for Information: NSF Information Center, (703) 292-5111.

Status: Part of this meeting will be closed to the public; Part of this meeting will be open to the public.

Matters to be Considered:

Wednesday, August 4, 2004

Open

Subcommittee on S&E Indicators (8 a.m.-9:30 a.m.), Room 1295

• Introductions

• Approval of minutes

• Schedule for S&E Indicators 2006

• Discussion of chapter outlines for S&E Indicators 2006

Ad Hoc Task Group on High Risk Research (8:30 a.m.-9:30 a.m.), Room 1295

• Discussion of draft white paper

• Discussion of workshop

Subcommittee on Polar Issues (9:30 a.m.-10:30 a.m.), Room 1295

• Chair's remarks, approval of minutes

• OPP Director's remarks

• International Polar Year research

• IT security update

Education and Human Resources (9:30 a.m.-11 a.m.), Room 1235

• Approval of minutes

• Comments from the chair

• Report from the Subcommittee on S&E Indicators

• Discussion of public comments received on NSB draft report, Broadening Participation in S&E Research & Education (NSB-04-41)

• EHR Directorate topics

Committee on Programs and Plans, Room 1235

Session I (11 a.m.-12:30 p.m.)

• Approval of Minutes, March 2004

• Environment status report

• Setting priorities for large facilities—continuing discussions

Session II (1 p.m.-2 p.m.)

• Updates:

• High Risk ad hoc working group

• LLDC working group

• Subcommittee on Polar Issues

Committee on Strategy & Budget (3:30 p.m. 3:45 p.m.) Room 1235

• Approval of minutes

• May 3 meeting

• June 18 teleconference

• July 16 teleconference

• Status of FY 2005 budget to Congress

Executive Committee (5 p.m.-5:15 p.m.), Room 1295

• Approval of Minutes

• Updates or new business from committee members

• Candidate sites for 2005 NSB retreat

Closed

Executive Closed Plenary session of the Board (12:30-1 p.m.), Room 1235

• Approval of Executive Closed minutes

• Executive Committee election

Committee on Programs & Plans (2 p.m.-3:30 p.m.), Room 1235

• Action Items

Committee on Strategy & Budget (3:45 p.m.-5 p.m.), Room 1235

• Discussion of FY 2006 NSF budget request to OMB

• Discussion of FY 2006 NSB budget request to OMB

Executive Committee (5:15 p.m.-5:30 p.m.), Room 1295

• Director's items, including

• Specific personnel matters

• Future budgets

Thursday, August 5, 2004

Open

Committee on Audit & Oversight (9:30 a.m.-11:30 a.m.), Room 1235

• Approval of minutes

• House Appropriations Committee questions regarding use and compensation of NSF IPA's/VSEE/temporary workers

• NSB position on House Government Efficiency and Financial Management Subcommittee question regarding PAS appointment of IG

• CFO update

• Business analysis update

• Math & science partnership report

Plenary Session of the Board (12:45 p.m.-3 p.m.), Room 1235

• Approval of minutes

• Resolution to close portions of the October 2004 meeting

• Chairman's report

• Director's report

• Committee reports

Closed

Ad Hoc Committee on Nominating NSB Class of 2006-2012 (8:30 a.m.-9:30 a.m.), Room 1295

• Discussion of nominees for appointment as NSB member

Committee on Audit & Oversight (11:30 a.m.-12 noon), Room 1235

• FY 2006 OIG Budget

• Pending Investigations

Closed Plenary Session of the Board (12 noon-12:30 p.m.), Room 1235

• Approval of closed minutes

• Closed committee reports

• FY 2006 budget

Michael P. Crosby,
Executive Officer, NSB.

[FR Doc. 04-17253 Filed 7-26-04; 8:58 am]

BILLING CODE 7555-01-P